SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: September 1-30, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects described below, pursuant to 18 CFR part 806, subpart E, for the time period specified above:

1. Amphenol Corporation—Amphenol Aerospace Operations, GF Certificate No. GF-202309257, Town of Sidney, Delaware County, N.Y.; West Well, North Well, and consumptive use; Issue Date: September 11, 2023.

2. New Enterprise Stone & Lime Co., Inc.—Weaverland Quarry, GF Certificate No. GF-202309258, East Earl Township, Lancaster County, Pa.; Wells 1 and 3, combined withdrawal from Wells 2 and 4, and Lower Plant Well 489; Issue Date: September 11, 2023.

3. Town of Chenango—Public Water Supply System—Well 12A and Cherry Lane Well Service Area, GF Certificate No. GF-202309259, Town of Chenango, Broome County, N.Y.; Cherry Lane Well; Issue Date: September 11, 2023.

4. Town of Chenango—Public Water Supply System—Maplewood and Applewood Wells Service Area, GF Certificate No. GF-202309260, Town of Chenango, Broome County, N.Y.; Applewood Well and Maplewood Well; Issue Date: September 11, 2023.

5. Town of Chenango—Public Water Supply System—Northgate Well Service Area, GF Certificate No. GF-202309261, Town of Chenango, Broome County, N.Y.; Northgate Well; Issue Date: September 11, 2023.

6. New Enterprise Stone & Lime Co., Inc.—Lewisburg Quarry, GF Certificate No. GF-202309262, Buffalo Township, Union County, Pa.; Wells 1, 2, 3, 4, and 5; Issue Date: September 12, 2023.

7. Pennsy Supply, Inc.—Silver Spring Quarry, GF Certificate No. GF-202309263, Silver Spring Township, Cumberland County, Pa.; Active and Inactive Pit Sumps and consumptive use; Issue Date: September 12, 2023.

8. Pure Events, L.P.—Lake Raystown Resort, GF Certificate No. GF-202309264, Hopewell Township, Huntingdon County, Pa.; Raystown Branch Juniata River; Issue Date: September 12, 2023.

(Authority: Pub. L. 91-575, 84 Stat. 1509 et seq., 18 CFR parts 806 and 808)

Dated: October 10, 2023.
Jason E. Oyler,
General Counsel and Secretary to the Commission.

[FR Doc. 2023-22721 Filed 10-13-23; 8:45 am]

BILLING CODE 7040-01-P